ENVIRONMENTAL PROTECTION AGENCY

[ER-FRL-9008-3]

Environmental Impacts Statements; Notice of Availability

Responsible Agency: Office of Federal Activities, General Information (202) 564-7146 or http://www.epa.gov/compliance/nepa/.

Weekly receipt of Environmental Impact Statements

Filed 03/11/2013 Through 03/15/2013

Pursuant to 40 CFR 1506.9.

Notice

Section 309(a) of the Clean Air Act requires that EPA make public its comments on EISs issued by other Federal agencies. EPA's comment letters on EISs are available at: http://www.epa.gov/compliance/nepa/eisdata.html.

EIS No. 20130064, Final Supplement, USFS, AK, Bell Island Geothermal Leases, Review Period Ends: 04/22/2013, Contact: Sarah Samuelson 907-789-6274.

EIS No. 20130065, Draft EIS, BLM, MT,HiLine District Draft Resource Management Plan, Comment Period Ends: 06/20/2013, Contact: Brian Hockett (406) 262-2837.

EIS No. 20130066, Final EIS, USN, GA,Proposed Modernization and Expansion of Townsend Bombing Range, Review Period Ends: 04/22/2013, Contact: Veronda Johnson 571-256-2783.

EIS No. 20130067, Draft EIS, WAPA, ND,Wilton IV Wind Energy Center, Comment Period Ends: 05/06/2013, Contact: Rod O'Sullivan 720-962-7260.

EIS No. 20130068, Draft EIS, USACE, CA,Berryesssa Creek Project, Comment Period Ends: 05/06/2013, Contact: Tyler Stalker 916-557-5107 EIS No. 20130069, Final Supplement, FHWA, WA, I-90 Snoqualmie Pass East, Avalanche Structures, Contact: Liana Liu 360-753-9553.

EIS No. 20130070, Draft EIS, WAPA, USFWS, 00,PROGRAMMATIC—Upper Great Plains Wind Energy, Comment Period Ends: 05/21/2013, Contact: Mark Wieringa 720-962-7448. The U.S. Department of Energy's Western Area Power Administration and the U.S. Department of the Interior's Fish and Wildlife Service are Joint Lead Agencies for this project.

EIS No. 20130071, Draft EIS, BLM, NV,Pan Mine Project, Comment Period Ends: 05/07/2013, Contact: Miles Kreidler 775-289-1893.

Amended Notices

EIS No. 20130015, Draft Supplement, FHWA, CA,Mid County Parkway, a new Freeway from the City of Perris to the City of San Jacinto, Riverside County, CA, Comment Period Ends: 04/10/2013, Contact: Larry Vinzant 916-498-5040. Revision to FR Notice Published 01/25/2013 and 03/08/2013; Extending Comment Period to 04/10/2013.

Dated: March 19, 2013.
Cliff Rader,
Director, NEPA Compliance Division, Office of Federal Activities.

[FR Doc. 2013-06645 Filed 3-21-13; 8:45 am]

BILLING CODE 6560-50-P